FEDERAL COMMUNICATIONS COMMISSION

[FR ID 293583]

Federal Advisory Committee Act; Communications Security, Reliability, and Interoperability Council

AGENCY: Federal Communications Commission.

ACTION: Notice of public meeting.

SUMMARY: In accordance with the Federal Advisory Committee Act, this notice advises interested persons that the Federal Communications Commission's (FCC) Communications Security, Reliability, and Interoperability Council (CSRIC) IX will hold its fifth meeting on June 12, 2025 at 1:00 p.m. EDT.

DATES: June 12, 2025.

ADDRESSES: The fifth meeting will be held at 45 L Street NE, Washington, DC, and via conference call. The meeting is open to the public and is also available via WebEx at https://www.fcc.gov/live and on the FCC's YouTube channel.

FOR FURTHER INFORMATION CONTACT: Suzon Cameron, Designated Federal Officer (DFO), CSRIC IX, FCC, (202) 418-1916 or email: CSRIC@fcc.gov, Kurian Jacob, Deputy DFO, CSRIC IX, FCC, (202) 418-2040 or email: CSRIC@fcc.gov, or Logan Bennett, Deputy DFO, CSRIC IX, FCC, (202) 418-7790 or email: CSRIC@fcc.gov.

SUPPLEMENTARY INFORMATION: The meeting will be held on June 12, 2025, at 1:00 p.m. EDT, in the Commission Meeting Room of the Federal Communications Commission, 45 L Street NE, Washington, DC. While the CSRIC IX meeting is open to the public, the FCC headquarters building is not open access, and all guests must check in with and be screened by FCC security at the main entrance on L Street. Attendees at the meeting will not be required to have an appointment but must otherwise comply with protocols outlined at: https://www.fcc.gov/visit.

The CSRIC is a Federal Advisory Committee that will provide recommendations to the Commission to improve the security, reliability, and interoperability of communications systems. On March 26, 2024, the Commission, pursuant to the Federal Advisory Committee Act, renewed the charter for CSRIC IX for a period of two years through March 25, 2026. The meeting on June 12, 2025, will be the fifth meeting of CSRIC IX under the current charter. The FCC will provide audio and/or video coverage of the meeting over the internet from the FCC's web page at https://www.fcc.gov/live and on the FCC's YouTube channel. The public may submit written comments before the meeting to Suzon Cameron, DFO, CSRIC IX, via email to CSRIC@fcc.gov.

Open captioning will be provided for this event. Other reasonable accommodations for people with disabilities are available upon request. Requests for such accommodations should be submitted via email to fcc504@fcc.gov or by calling the Consumer & Governmental Affairs Bureau at (202) 418-0530 (voice). Such requests should include a detailed description of the accommodation needed. In addition, please include a way the Commission can contact you if it needs more information. Please allow at least five days' advance notice; last-minute requests will be accepted but may not be possible to accommodate.

Federal Communications Commission.
Marlene Dortch,
Secretary, Office of the Secretary.

[FR Doc. 2025-09280 Filed 5-22-25; 8:45 am]

BILLING CODE 6712-01-P